DEPARTMENT OF THE INTERIOR

National Park Service

[NPS-WASO-NAGPRA-NPS0034566; PPWOCRADN0-PCU00RP14.R50000]

Notice of Inventory Completion: Gordon L. Grosscup Museum of Anthropology, Wayne State University, Detroit, MI

AGENCY: National Park Service, Interior.

ACTION: Notice.

SUMMARY: The Gordon L. Grosscup Museum of Anthropology, Wayne State University, has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the Gordon L. Grosscup Museum of Anthropology, Wayne State University. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Gordon L. Grosscup Museum of Anthropology, Wayne State University at the address in this notice by October 20, 2022.

FOR FURTHER INFORMATION CONTACT: Dr. Megan McCullen, Gordon L. Grosscup Museum of Anthropology, Wayne State University, 4841 Cass Avenue, Suite 2155, Detroit, MI 48201, telephone (313) 577-6455, email grosscupmuseum@wayne.edu.

SUPPLEMENTARY INFORMATION: Notice is here given in accordance with the Native American Graves Protection and Repatriation Act (NAGPRA), 25 U.S.C. 3003, of the completion of an inventory of human remains and associated funerary objects under the control of the Gordon L. Grosscup Museum of Anthropology, Wayne State University, Detroit, MI. The human remains and associated funerary objects were removed from the Gibraltar Site (20WN10) in Wayne County, MI.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Gordon L. Grosscup Museum of Anthropology, Wayne State University professional staff in consultation with representatives of the Bay Mills Indian Community, Michigan; Grand Traverse Band of Ottawa and Chippewa Indians, Michigan; Hannahville Indian Community, Michigan; Keweenaw Bay Indian Community, Michigan; Lac Vieux Desert Band of Lake Superior Chippewa Indians, Michigan; Little River Band of Ottawa Indians, Michigan; Little Traverse Bay Bands of Odawa Indians, Michigan; Match-e-be-nash-she-wish Band of Pottawatomi Indians of Michigan; Nottawaseppi Huron Band of the Potawatomi, Michigan (previously listed as Huron Potawatomi, Inc.); Pokagon Band of Potawatomi Indians, Michigan and Indiana; Saginaw Chippewa Indian Tribe of Michigan; and the Sault Ste. Marie Tribe of Chippewa Indians, Michigan (hereafter referred to as “The Consulted Tribes”).

History and Description of the Remains

Between 1970 and 1972, and again in 1978, human remains representing, at minimum, 35 individuals were removed from the Gibraltar Site (20WN10) in Wayne County, MI. Salvage excavations were undertaken at the site by S. Demeter and C. Martinez between 1970 and 1972, and a Wayne State University Field School was conducted at the site in 1971 and 1978. There is no report on the total number of burials excavated during 1970-1972; the highest number assigned to a burial is No. 37. The majority of the individuals are represented only by fragmentary and incomplete remains. No known individuals were identified. The 21 associated funerary objects are seven wood fragments, two iron fragments, two silver brooches, two ribbon brooches, two white seed beads, two copper springs, two square nails, one belt buckle, and one silver coin.

While the Gibraltar Site was occupied as early as the Woodland period, the human remains and associated funerary objects listed in this notice all derive from a historic period Native American cemetery that was once located near the intersection of West Jefferson and Gibraltar Roads, in Gibraltar, Michigan. In 1968, this burial ground was bulldozed for development of the Kingsbridge Apartment Complex.

The Wayne State University archeologists who excavated the Gibraltar Site did not compile written reports, but their historical research led them to believe that it was Wyandot. More recent archeological work in the region has also documented the Gibraltar Site and possibly additional nearby sites as Wyandot (see Demeter, C.S. “Phase I Archaeological Survey and Literature Search of the Proposed Woodland Meadows Van Buren Expansion Wetland Mitigation Site, Parcel III D. Gibraltar, Wayne County, Michigan”). Also, historical records document Wyandot settlements near Gibraltar during the early 18th century, as well as the establishment of the village of Brownstown in present day Gibraltar, in 1742. Today, the local Wyandot of Anderdon Nation recognize the area around Gibraltar as a significant cultural landscape.

Determinations Made by the Gordon L. Grosscup Museum of Anthropology, Wayne State University

Officials of the Gordon L. Grosscup Museum of Anthropology, Wayne State University have determined that:

• Pursuant to 25 U.S.C. 3001(9), the human remains described in this notice represent the physical remains of 35 individuals of Native American ancestry.

• Pursuant to 25 U.S.C. 3001(3)(A), the 21 objects described in this notice are reasonably believed to have been placed with or near individual human remains at the time of death or later as part of the death rite or ceremony.

• Pursuant to 25 U.S.C. 3001(2), there is a relationship of shared group identity that can be reasonably traced between the Native American human remains and associated funerary objects and the Wyandotte Nation.

Additional Requestors and Disposition

Lineal descendants or representatives of any Indian Tribe or Native Hawaiian organization not identified in this notice that wish to request transfer of control of these human remains and associated funerary objects should submit a written request with information in support of the request to Dr. Megan McCullen, Gordon L. Grosscup Museum of Anthropology, Wayne State University, 4841 Cass Avenue, Suite 2155, Detroit, MI 48201, telephone (313) 577-6455, email grosscupmuseum@wayne.edu, by October 20, 2022. After that date, if no additional requestors have come forward, transfer of control of the human remains and associated funerary objects to the Wyandotte Nation may proceed.

The Gordon L. Grosscup Museum of Anthropology, Wayne State University, is responsible for notifying the Wyandotte Nation and The Consulted Tribes that this notice has been published.

Dated: September 14, 2022.
Melanie O'Brien,
Manager, National NAGPRA Program.

[FR Doc. 2022-20300 Filed 9-19-22; 8:45 am]

BILLING CODE 4312-52-P